ENVIRONMENTAL PROTECTION AGENCY

[EPA-HQ-OPP-2009-1017; FRL-8882-9]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before September 6, 2011.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attn: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 45 pesticide products registered under FIFRA section 3 or 24(c). These registrations are listed in sequence by registration number (or company number and 24(c) number) in Tables 1, 2, and 3 of this unit.

Unless the Agency determines that there are substantive comments that warrant further review of the requests or the registrants withdraw their requests, EPA intends to issue an order in the Federal Register canceling all of the affected registrations.

Table 1—Registrations With Pending Requests for Cancellation
EPA Reg. No. | Product name | Active ingredients
000239-02373 | Bug-Geta Snail & Slug Pellets | Metaldehyde.
000279-03053 | Command 4EC Herbicide | Clomazone.
000279-03071 | Command 4E Herbicide | Clomazone.
000538-00199 | Scotts Turf Manager for St. Augustine Grass | Paclobutrazol.
000538-00201 | Scotts Turf Manager II | Paclobutrazol.
001270-00254 | Zep FS CIP Acid Sanitizer | Phosphoric Acid Dodecybenzenesulfonic acid.
001448-00047 | Busan 52 | Carbamodithioic acid, methyl-, monopotassium salt.
001448-00389 | D-33-5 | Potassium dimethyldithiocarbamate.
001448-00390 | D-33-6 | Potassium dimethyldithiocarbamate.
001448-00391 | D-33-7 | Potassium dimethyldithiocarbamate.
001448-00392 | D-33-8 | Potassium dimethyldithiocarbamate.
001448-00429 | Diald 25P | Glutaraldehyde.
001448-00430 | Diald 15P | Glutaraldehyde.
001448-00431 | Diald 45P | Glutaraldehyde.
002596-00132 | Hartz Sumithrin Carpet Powder | MGK-264 Sumithrin.
002724-00697 | Permanone H&G Insect Control | Permethrin.
004822-00531 | Raid 1000 | Triethylene glycol.
006959-00082 | Cessco Accudose Aerosol Insecticide | Pyrethrins Piperonyl butoxide.
047000-00171 | SMCP Pyrethrum Dust 1% | Pyrethrins.
061483-00086 | 10% Permectrin Pour-On Insecticide | Permethrin.
069592-00002 | Laginex AS | Lagenidium giganteum, mycelium or oospores.
069592-00003 | Technical Laginex | Lagenidium giganteum, mycelium or oospores.
070506-00202 | Penncozeb EG Raincote | Mancozeb.
080490-00002 | Promeris Spot on for Dogs | Amitraz 4-{(2Z)-2-({[4-(Trifluoromethoxy)Anilino]Carbonyl}Hydrazono)-2-[3-(Trifluoromethyl)Phenyl]Ethyl}Benzonitrile Metaflumizone.
080490-00003 | Promeris Spot on for Cats | 4-{(2Z)-2-({[4-(Trifluoromethoxy)Anilino]Carbonyl}Hydrazono)-2-[3-(Trifluoromethyl)Phenyl]Ethyl}Benzonitrile Metaflumizone.
080490-00004 | Promeris for Dogs—Flea Control | 4-{(2Z)-2-({[4-(Trifluoromethoxy)Anilino]Carbonyl}Hydrazono)-2-[3-(Trifluoromethyl)Phenyl]Ethyl}Benzonitrile Metaflumizone.
081598-00010 | Glyphosate Acid Technical | Glyphosate.
083100-00029 | Glyphosate 62% Manufacturing Concentrate | Glyphosate-isopropylammonium.
087650-00001 | Fipronil Technical | Fipronil
CA920028 | Devrinol 50-DF Selective Herbicide | Napropamide.
CO100002 | Endigo | Thiamethoxan lambda-Cythalothrin.
ND900005 | Vitavax-200 Flowable Fungicide (Vitavax with Thiram) | Thiram Carboxin.

Table 2—Registrations Containing Methyl Bromide or Chloropicrin With Pending Requests for Cancellation
EPA Reg. No. | Product name | Active ingredients
005785-00017 | Chlor-O-Pic | Chloropicrin.
005785-00025 | Terr-O-Gas 33 Preplant Soil Fumigant | Chloropicrin Methyl bromide.
008536-00012 | Methyl Bromide 99.5% | Methyl bromide.
CA900038 | Methyl Bromide 99.5% | Methyl bromide.
CA900045 | Methyl Bromide 99.5% | Methyl bromide.
CA910003 | Methyl Bromide 99.5% | Methyl bromide.
CA910020 | Methyl Bromide 99.5% | Methyl bromide.
CA970017 | Methyl Bromide 99.5% | Methyl bromide.
ID070004 | MBC Concentrate Soil Fumigant | Methyl bromide.

Table 3—Registrations Containing Carbofuran with Pending Requests for Cancellation
EPA Reg. No. | Product name | Active ingredients
000279-02712 | Furadan 10 G Insecticide/Nematicide | Carbofuran.
000279-02876 | Furadan 4F Insecticide/Nematicide | Carbofuran.
000279-03023 | Furadan 15 G Insecticide/Nematicide | Carbofuran.
000279-03310 | Furadan LFR Insecticide/Nematicide | Carbofuran.

Table 4 of this unit includes the names and addresses of record for all registrants of the products in Tables 1, 2, and 3 of this unit, in sequence by EPA company number. This number corresponds to the first part of the EPA registration numbers of the products listed in this unit.

Table 4—Registrants Requesting Voluntary Cancellation
EPA Co. No. | Company name and address
239 | The Scotts Company, P.O. Box 190, Marysville, OH 43040.
279 | FMC Corp. Agricultural Products Group, ATTN: Michael C. Zucker, 1735 Market St., Rm 1978, Philadelphia, PA 19103.
538 | The Scotts Company, 14111 Scottslawn Rd., Marysville, OH 43041.
1270 | ZEP Inc., 1310 Seaboard Industrial Blvd. NW., Atlanta, GA 30318.
1448 | Buckman Laboratories Inc., 1256 North McLean Blvd., Memphis, TN 38108.
2596 | The Hartz Mountain Corp., 400 Plaza Dr., Secaucus, NJ 07094.
2724 | Wellmark International, 1501 E. Woodfield Rd., Suite 200 West, Schaumburg, IL 60173.
4822 | S.C. Johnson & Son Inc., 1525 Howe St., Racine, WI 53403.
5785 | Great Lakes Chem Corps, Agent: Chemtura Corporation, 1801 Highway 52 West, West Lafayette, IN 47906.
6959 | Cessco Inc, 3609A River Rd., John's Island, SC 29455.
8536 | Soil Chemicals Corporation , P.O. Box 782, Hollister, CA 95024.
47000 | Chem-Tech, LTD., 4515 Fleur Dr. #303, Des Moines, IA 50321.
61483 | KMG-Bernuth, Inc., 9555 W. Sam Houston Pkwy South, Suite 600 , Houston, TX 77099.
69592 | Agraquest Inc, 1540 Drew Avenue, Davis, CA 95618-6320.
70506 | United Phosphorus, Inc, 630 Freedom Business Center, Suite 402, King of Prussia, PA 19406.
80490 | Fort Dodge Animal Health, 7000 Portage Rd., KZO 300-403 SW., Kalamazoo, MI 49001.
81598 | Rotam Limited, AGENT: IPM Resources LLC, 4032 Crockers Lake Blvd., Suite 818, Sarasota, FL 43238.
83100 | Rotam Agrochemical Company Ltd., AGENT: IPM Resources LLC, 4032 Crockers Lake Blvd., Suite 818, Sarasota, FL 43238.
87650 | Fipronex Solutions, Inc., AGENT: Technology Sciences Group, Inc., 1150 18th St., NW., Suite 1000, Washington, DC 20036.
CA900038; CA900045; CA910003; CA910020; CA970017 | Soil Chemicals Corporation , P.O. Box 782, Hollister, CA 95024.
CA920028 | Easter Lily Research Foundation, P.O. Box 907, Brookings, OR 97415.
CO100002 | Syngenta Crop Protection, LLC, P.O. Box 18300, Greensboro, NC 27419-8300.
ID070004 | TriCal Inc., P.O. Box 1327, Hollister, CA 95024-1327.
ND900005 | Chemtura Corporation, 199 Benson Rd. (2-5), Middlebury, CT 06749.

III. What is the Agency's authority for taking this action?

Section 6(f)(1) of FIFRA provides that a registrant of a pesticide product may at any time request that any of its pesticide registrations be cancelled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 4 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Upon cancellation of the products identified in Tables 1, 2, and 3 of Unit II., EPA will allow existing stocks provisions as follows:

A. Registrations Listed in Table 1 of Unit II Except Nos. 080490-00002, 080490-00003, 080490-00004

The Agency anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Registration Nos. 080490-00002, 080490-00003, 080490-00004

The Agency anticipates allowing registrants to sell and distribute existing stocks of these products through September 30, 2011. Thereafter, registrants will be prohibited from selling or distributing these pesticide products, except for export consistent with FIFRA section 17 or for proper disposal. Persons other than registrants will generally be allowed to sell, distribute, or use existing stocks until such stocks are exhausted, provided that such sale, distribution, or use is consistent with the terms of the previously approved labeling on, or that accompanied, the cancelled products.

C. Registrations Listed in Table 2 of Unit II

The effective date of cancellation of these products is the date of publication of the cancellation order in the Federal Register. The registrants will be allowed to sell and distribute existing stocks until December 31, 2011. Thereafter, registrants will be prohibited from selling or distributing these pesticide products, except for export consistent with FIFRA section 17 or for proper disposal.

Persons other than the registrant will be allowed to sell and distribute existing stocks through April 30, 2012. After this date, remaining existing stocks may be used until exhausted, provided that such use complies with the EPA-approved label and labeling of the product.

D. Registrations Listed in Table 3 of Unit II

The effective date of cancellation of these products is the date of publication of the cancellation order in the Federal Register. EPA does not intend to allow the continued sale and distribution of existing stocks of these products after the effective date of this cancellation for several reasons. First, there are currently no tolerances in effect for any of the food or feed crops associated with the domestic use of these products, and there have been none since the 2009 tolerance revocations took effect on December 31, 2009, (May 15, 2009, 74 FR 23046) (FRL-8413-3). In addition, the Agency believes that little, if any existing stock remains in the hands of retailers, based on the sole registrant's repeated representation that no carbofuran products have been released for shipment since January 2010, and that they have offered to buy back unused carbofuran products. Consequently, sale of existing stocks of carbofuran is prohibited as of the effective date of this cancellation. Users may only use those carbofuran products labeled for non-food use (ornamentals, spinach grown for seed, and pine seedlings) on those specific crops and in accordance with all geographical restrictions. Any food or feed crops with carbofuran residues after this date will be considered adulterated and subject to seizure.

List of Subjects

Environmental protection, Pesticides and pests.

Dated: August 1, 2011.
Patricia L. Moe,
Acting Director, Pesticide Re-evaluation Division, Office of Pesticide Programs.

[FR Doc. 2011-19903 Filed 8-4-11; 8:45 am]

BILLING CODE 6560-50-P